DEPARTMENT OF DEFENSE

Department of the Army, U. S. Army Corps of Engineers

Withdrawal of Notice of Intent To Prepare a Supplemental Environmental Impact Statement for the Raritan Bay and Sandy Hook Bay, New Jersey Feasibility Report for Hurricane and Storm Damage Reduction Union Beach, New Jersey Final Feasibility Report

AGENCY: Department of the Army, U.S. Army Corps of Engineers, DoD.

ACTION: Notice of Intent; Withdrawal.

SUMMARY: The U.S. Army Corps of Engineers, New York District (NY District), is withdrawing its intent to prepare a Draft Supplemental Environmental Impact Statement (SEIS) for the Study. The Notice of Intent to prepare the SEIS was published in the Friday, January 24, 2014, issue of the Federal Register (79 FR 4155).

ADDRESSES: U.S. Army Corps of Engineers, New York District, Planning Division, Environmental Analysis Branch, 26 Federal Plaza, Room 2151, New York, NY 10278-0090.

FOR FURTHER INFORMATION CONTACT: Matthew Voisine, Project Biologist, at matthew.voisine@usace.army.mil or 917.790.8718.

SUPPLEMENTARY INFORMATION: The U.S. Army Corps of Engineers, NY District published a notice of intent to prepare a Supplemental Environmental Impact Statement in the January 24, 2014 issue of the Federal Register (FR Doc. 2014-01443 ). Since that time, resource agency involvement through meetings, changes in plan formulation, and re-evaluation of the project have reduced the magnitude and extent of proposed flood risk management measures and associated environmental impacts to the point that an SEIS is no longer necessary. A Supplemental Environmental Assessment will be prepared and circulated for review by agencies and the public. The NY District invites participation and consultation of agencies and individuals that have special expertise, legal jurisdiction, or interest in the preparation of the draft environmental assessment. Comments received, including the names and addresses of those who comment, will be considered part of the public record for this proposal. As a result of the process, if it is determined that the project may have significant impacts, the EIS process will be reinitiated and a NOI published.

Peter Weppler,
Chief, Environmental Analysis Branch.

[FR Doc. 2016-22336 Filed 9-15-16; 8:45 am]

BILLING CODE 3720-58-P